DEPARTMENT OF ENERGY

Federal Energy Regulatory Commission

[Project Nos. 2692-032, 2603-012, and 2619-012; North Carolina]

Duke Power Company LLC ; Notice of Availability of Environmental Assessment

July 12, 2006.

In accordance with the National Environmental Policy Act of 1969, as amended, and Federal Energy Regulatory Commission (Commission) regulations (18 CFR part 380), Commission staff reviewed the applications for licenses for the Nantahala, Franklin, and Mission projects (Nantahala West Projects) and prepared a combined environmental assessment (EA). The projects are located on the Nantahala, Little Tennessee, and Hiwassee rivers, respectively, in Macon and Clay counties, North Carolina.

In this EA, Commission staff analyzes the probable environmental effects of implementing the projects and conclude that approval of the projects, with appropriate staff-recommended environmental measures, would not constitute a major federal action significantly affecting the quality of the human environment.

Copies of the EA are available for review in Public Reference Room 2-A of the Commission's offices at 888 First Street, NE., Washington, DC. The EA also may be viewed on the Commission's Internet Web site (http://www.ferc.gov) using the “eLibrary” link. Additional information about the projects is available from the Commission's Office of External Affairs at (202) 502-6088, or on the Commission's Web site using the “eLibrary” link. For assistance, contact FERCOnlineSupport@ferc.gov or call toll-free (866) 208-3676; for TTY, call (202) 502-8659.

For further information, please contact Carolyn Holsopple at (202) 502-6407, or at carolyn.holsopple@ferc.gov.

Magalie R. Salas,
Secretary.

[FR Doc. E6-11354 Filed 7-17-06; 8:45 am]

BILLING CODE 6717-01-P